DEPARTMENT OF COMMERCE

Foreign-Trade Zones Board

[Order No. 1631]

Expansion of Foreign-Trade Zone 163, Ponce, Puerto Rico, Area

Pursuant to its authority under the Foreign-Trade Zones Act of June 18, 1934, as amended (19 U.S.C. 81a-81u), the Foreign-Trade Zones Board (the Board) adopts the following Order:

Whereas, CODEZOL, C.D., grantee of Foreign-Trade Zone 163, submitted an application to the Board for authority to expand its zone to include an additional site (Site 10) in the Ponce, Puerto Rico area, adjacent to the Ponce Customs and Border Protection port of entry (FTZ Docket 58-2008, filed 10/08/08);

Whereas, notice inviting public comment was given in the Federal Register (73 FR 61780, 10/17/08; correction 73 FR 65583, 11/4/08), and the application has been processed pursuant to the FTZ Act and the Board's regulations; and,

Whereas, the Board adopts the findings and recommendations of the examiner's report, and finds that the requirements of the FTZ Act and Board's regulations are satisfied, and that the proposal is in the public interest;

Now, therefore, the Board hereby orders:

The application to expand FTZ 163 is approved, subject to the FTZ Act and the Board's regulations, including Section 400.28, and subject to a sunset provision that would terminate authority for Site 10 on June 30, 2014, if no activity has occurred under FTZ procedures before that date.

Signed at Washington, DC, this 26th day of June 2009.

Ronald K. Lorentzen,
Acting Assistant Secretary of Commerce for Import Administration, Alternate Chairman, Foreign-Trade Zones Board.
Attest:
Andrew McGilvray,
Executive Secretary,

[FR Doc. E9-16790 Filed 7-14-09; 8:45 am]

BILLING CODE 3510-DS-S